DEPARTMENT OF COMMERCE

Foreign-Trade Zones Board

[Docket 55-2008]

Foreign-Trade Zone 26—Atlanta, GA, Area; Application for Reorganization/Expansion; Correction

The Federal Register notice (73 FR 60676-60677, 10/14/08) describing the application to reorganize and expand Foreign-Trade Zone 26 in the Atlanta area should be corrected as follows: Proposed Site 12 (241 acres)—within the 1,800-acre Callaway South Industrial Park, located at Pegasus Parkway and South Loop Extension off of Interstate 85, LaGrange. The application otherwise remains unchanged.

Dated: October 21, 2008.
Andrew McGilvray,
Executive Secretary.

[FR Doc. E8-25576 Filed 10-24-08; 8:45 am]

BILLING CODE 3510-DS-P